DEPARTMENT OF JUSTICE

Notice of Lodging of Consent Decree Pursuant to the Comprehensive Environmental Response, Compensation and Liability Act of 1980 (“CERCLA”)

Notice is hereby given that a proposed Consent Decree (“Decree”) in United States v. Jabbar Malik, Civil Action No. 1:00CV00084FRB, was lodged July 28, 2000, with the United States District Court for the Eastern District of Missouri.

The Complaint filed in the above-referenced matter alleges that M.A. Jabbar Malik (“Defendant”) is liable under Section 107(a) of the Comprehensive Environmental Response, Compensation and Liability Act of 1980, as amended, (“CERCLA”), 42 U.S.C. 9607(a), for costs incurred by EPA as a result of the release or threatened release of hazardous substances at or in connection with the MRM Industries, Inc. Superfund Site (“Site”) in Sikeston, Missouri. The Complaint, which was filed simultaneously on July 28, 2000 with the Decree, sought response costs incurred by the United States in connection with the Site, plus prejudgment interest.

Under the proposed Decree, Defendant shall pay to the EPA Hazardous Substance Superfund $5,000 in reimbursement of response costs. In exchange, the United States is granting Defendant a covenant not to sue or take administrative action against Defendant pursuant to Section 107(a) of CERCLA, 42 U.S.C. 9607(a) for recovery of response costs. This covenant not to sue extends only to Settling Defendant and does not extend to any other persons. This covenant not to sue is also conditioned upon the satisfactory performance by Settling Defendant of his obligations under the Decree.

The Department of Justice will receive, for a period of thirty (30) days from the date of this publication, comments relating to the proposed consent decree. Comments should be addressed to the Assistant Attorney General for the Environment and Natural Resources Division, Department of Justice, P.O. Box 7611, Washington, DC 20044-7611, and should refer to United States v. M.A. Jabbar Malik, DOJ Ref. #90-11-3-1459/1.

The proposed Decree may be examined at the office of the United States Environmental Protection Agency, Region VII, 901 North 5th Street, Kansas City, Kansas 66101. A copy of the proposed Decree may also be obtained by mail from the Consent Decree Library, P.O. Box 7611, Washington, DC 20044. In requesting a copy of the Consent Decree, please refer to the referenced case and enclose a check in the amount of $5.75, payable to the Consent Decree Library.

Bruce Gelber,
Deputy Chief, Environmental Enforcement Section, Environment and Natural Resources Division.

[FR Doc. 00-21286 Filed 8-21-00; 8:45 am]

BILLING CODE 4410-15-M